DEPARTMENT OF HEALTH AND HUMAN SERVICES

Food and Drug Administration

[Docket No. 2007N-0195]

Science Board to the Food and Drug Administration; Amendment of Notice; Correction

AGENCY: Food and Drug Administration, HHS.

ACTION: Notice; correction.

SUMMARY: The Food and Drug Administration is correcting a notice that appeared in the Federal Register of June 7, 2007 (72 FR 31587). The document announced an amendment to the notice of meeting of the Science Board to the Food and Drug Administration. The meeting was originally announced in the Federal Register of May 21, 2007 (72 FR 28499). The document was published with an incorrect docket number. This document corrects that error.

FOR FURTHER INFORMATION CONTACT: Joyce Strong, Office of Policy and Planning (HF-27), Food and Drug Administration, 5600 Fishers Lane, Rockville, MD 20857, 301-827-7010.

SUPPLEMENTARY INFORMATION: In FR Doc. 07-2829, appearing on page 31587 in the Federal Register of Thursday, June 7, 2007, the following correction is made:

1. On page 31587, in the first column, in the heading of the document, “[Docket No. 2007N-0208]” is corrected to read “[Docket No. 2007N-0195]”.

Dated: June 11, 2007.
Randall W. Lutter,
Associate Commissioner for Policy and Planning.

[FR Doc. E7-11727 Filed 6-18-07; 8:45 am]

BILLING CODE 4160-01-S